DEPARTMENT OF JUSTICE

Notice of Lodging of Consent Decree Pursuant to Comprehensive Environmental Response, Compensation, and Liability Act

Notice is hereby given that on August 6, 2012, a proposed Consent Decree in United States of America v. The Gillette Company, et al., Civil Action No. 1:12-cv-01247-MAD-TWD, was lodged with the United States District Court for the Northern District of New York.

The proposed Consent Decree is between Plaintiff the United States of America, and the following Defendants: The Gillette Company; KeySpan Gas East Corporation (d/b/a National Grid); Energizer Battery Manufacturing, Inc.; Union Carbide Corporation; Spectrum Brands, Inc.; Brambles Environmental, Inc.; Clean Harbors Environmental Services, Inc.; Qwest Communications International, Inc.; Verizon New York, Inc.; 26 Railroad Ave., Inc.; A.P. Pharma, Inc.; Ajinomoto North America, Inc.; Allegheny Ludlum, LLC; Amresco, LLC; Arizona Chemical Company, LLC; Atmos Energy Corporation; Battery Broker Environmental Services, Inc.; Buffalo Optical Co.; Cameron International Corp; Chemtron Corp.; City of Lakeland; City of North Tonawanda; City of Richmond; Dukane Corp.; East Side Jersey Dairy, Inc.; FirstEnergy Corp.; Glit, Division of CCP, LLC; Harding Metals, Inc.; Honeywell International, Inc.; Johnson Controls, Inc.; Los Angeles Unified School District; MDI, Inc.; Memphis Light, Gas & Water Division; Metalor Technologies USA Corp.; Orange Water and Sewer Authority; Orlando Utilities Commission; Osram Sylvania, Inc.; Partlow West Corporation; Pioneer Natural Resources USA, Inc.; Potomac Electric Power Company; Rutland Regional Medical Center; Scana Corp.; Southern Union Company; Space Systems/Loral, Inc.; Taylor School District; The M&P Lab, Inc.; The Scripps Research Institute; TRW Automotive US, LLC; Union College; University Hospital of Cleveland; Virginia Natural Gas; and York International Corp. (collectively, the “Settling Defendants”). The Consent Decree resolves the United States' claims against the Settling Defendants under Sections 106 and 107(a) of the Comprehensive Environmental Response, Compensation, and Liability Act, as amended (“CERCLA”), 42 U.S.C. 9606, 9607(a), and resolves threatened claims for contribution from federal agencies (the “Settling Federal Agencies”) with alleged liability.

Pursuant to the Consent Decree, five Settling Defendants, referred to in the Consent Decree as “Appendix A-1 Settling Defendants,” will finance and perform the selected soil, sediment and groundwater remedies at the Site, estimated to cost $9.3 million. In addition, 26 Railroad Avenue, Inc., the Site owner, will perform certain work in accordance with Appendix H of the Consent Decree. Further, the Appendix A-1 Settling Defendants will reimburse the United States for its future response costs in excess of $1 million. The remaining Settling Defendants, and the Settling Federal Agencies, will make a financial contribution toward the Site cleanup. The Consent Decree includes covenants not to sue the Defendants by the United States under Sections 106 and 107(a) of CERCLA, 42 U.S.C. 9606, 9607(a), and a covenant by EPA not to take administrative action against the Settling Federal Agencies pursuant to Sections 106 and 107(a) of CERCLA, relating to the Site.

The Department of Justice will receive comments relating to the proposed Consent Decree for a period of thirty (30) days from the date of this publication. Comments should be addressed to the Assistant Attorney General, Environment and Natural Resources Division, and either emailed to pubcomment-ees.enrd@usdoj.gov or mailed to P.O. Box 7611, U.S. Department of Justice, Washington, DC 20044-7611, and should refer to United States of America v. The Gillette Company, et al., Civil Action No. 1:12-cv-01247-MAD-TWD, D.J. Ref. 90-11-2-07742/7.

During the public comment period, the proposed Consent Decree may be examined on the following Department of Justice Web site, http://www.usdoj.gov/enrd/Consent_Decrees.html. A copy of the proposed Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy by mail from the Consent Decree Library, please enclose a check in the amount of $89.75 ($0.25 per page reproduction cost) payable to the United States Treasury or, if requesting by email or fax, forward a check in that amount to the Consent Decree Library at the stated address. If requesting a copy exclusive of appendices and the parties' signature pages, please enclose a check in the amount of $14.25 ($0.25 per page reproduction cost) payable to the United States Treasury.

Maureen Katz,
Assistant Section Chief, Environmental Enforcement Section, Environment and Natural Resources Division.

[FR Doc. 2012-19710 Filed 8-10-12; 8:45 am]

BILLING CODE 4410-15-P